TENNESSEE VALLEY AUTHORITY

Meeting of the Regional Energy Resource Council

AGENCY: Tennessee Valley Authority (TVA).

ACTION: Notice of meeting.

SUMMARY: The TVA Regional Energy Resource Council (RERC) will hold a meeting on Wednesday, January 20 and Thursday, January 21, 2016, regarding regional energy related issues in the Tennessee Valley.

The RERC was established to advise TVA on its energy resource activities and the priorities among competing objectives and values. Notice of this meeting is given under the Federal Advisory Committee Act (FACA), 5 U.S.C. App. 2.

The meeting agenda includes the following:

1. Welcome and Introductions

2. Update of RERC First Term Key Advice

3. Public Comments

4. TVA's Integrated Resource Plan Direction, Indicators, and Evolving Market Place

5. Overview of Coal Combustion Residuals and Draft Environmental Impact Statement

6. Council Discussion and Advice

The RERC will hear opinions and views of citizens by providing a public comment session starting at 3:30 p.m. CST on Wednesday, January 20. Persons wishing to speak are requested to register at the door by 3:15 p.m. CST on Wednesday, January 20 and will be called on during the public comment period. Handout materials should be limited to one printed page. Written comments are also invited and may be mailed to the Regional Energy Resource Council, Tennessee Valley Authority, 400 West Summit Hill Drive, WT-9D, Knoxville, Tennessee 37902.

DATES: The meeting will be held on Wednesday, January 20, 2016, from 10:00 a.m. to 4: 30 p.m. and Thursday, January 21, 2016, from 12:30 p.m. to 3:45 p.m. CST.

ADDRESSES: The meeting will be held at the Sheraton Memphis Downtown Hotel, 250 North Main Street, Memphis, TN 38103, and will be open to the public. Anyone needing special access or accommodations should let the contact below know at least a week in advance.

FOR FURTHER INFORMATION CONTACT: Beth Keel, 400 West Summit Hill Drive, WT-9D, Knoxville, Tennessee 37902, (865) 632-6113.

Dated: December 17, 2015.
Joseph J. Hoagland,
Vice President, Stakeholder Relations, Tennessee Valley Authority.

[FR Doc. 2015-32421 Filed 12-23-15; 8:45 am]

BILLING CODE 8120-08-P